DEPARTMENT OF TRANSPORTATION

Federal Aviation Administration

14 CFR Part 39

[Docket No. FAA-2020-0812; Project Identifier MCAI-2020-01317-A; Amendment 39-21561; AD 2021-10-28]

RIN 2120-AA64

Airworthiness Directives; Pilatus Aircraft Ltd. Airplanes

AGENCY: Federal Aviation Administration (FAA), DOT.

ACTION: Final rule.

SUMMARY: The FAA is adopting a new airworthiness directive (AD) for all Pilatus Aircraft Ltd. (Pilatus) Model PC-24 airplanes. This AD results from mandatory continuing airworthiness information (MCAI) originated by an aviation authority of another country to identify and correct an unsafe condition on an aviation product. The MCAI identifies the unsafe condition as the need to revise certain airworthiness limitations and certification maintenance instructions. The FAA is issuing this AD to address the unsafe condition on these products.

DATES: This AD is effective July 15, 2021.

The Director of the Federal Register approved the incorporation by reference of certain publications listed in this AD as of July 15, 2021.

ADDRESSES: For service information identified in this final rule, contact Pilatus Aircraft Ltd., Customer Support General Aviation, CH-6371 Stans, Switzerland; phone: +41 848 24 7 365; email: techsupport.ch@pilatus-aircraft.com; website: https://www.pilatus-aircraft.com. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2020-0812; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, FAA, General Aviation & Rotorcraft Section, International Validation Branch, 901 Locust, Room 301, Kansas City, MO 64106; phone: (816) 329-4059; fax: (816) 329-4090; email: doug.rudolph@faa.gov.

SUPPLEMENTARY INFORMATION:

Background

The FAA issued a notice of proposed rulemaking (NPRM) to amend 14 CFR part 39 by adding an AD that would apply to all Pilatus Model PC-24 airplanes. The NPRM published in the Federal Register on March 11, 2021 (86 FR 13838). The NPRM was based on MCAI from the European Union Aviation Safety Agency (EASA), which is the Technical Agent for the Member States of the European Union. EASA issued AD 2020-0202, dated September 22, 2020 (referred to after this as “the MCAI”) to correct an unsafe condition for Pilatus Model PC-24 airplanes. The MCAI states:

The airworthiness limitations and certification maintenance instructions for Pilatus PC-24 aeroplanes, which are approved by EASA, are currently defined and published in Pilatus PC-24 AMM [Aircraft Maintenance Manual] Chapter 04-00-00. These instructions have been identified as mandatory for continued airworthiness.

Failure to accomplish these instructions could result in an unsafe condition.

Previously, EASA issued AD 2020-0074, [dated March 27, 2020,] requiring the actions described in the Pilatus PC-24 AMM Chapter 04-00-00, Document Number 02378 Issue 005 at Revision 14.

Since that AD was issued, Pilatus published the ALS [Airworthiness Limitations section, at Issue 005 Revision 19], which contains the following new and/or more restrictive tasks as specified in Mandatory Structural Inspection Items data module PC24-AA04-20-0000-00A-000A-A Issue 005 Revision 00:

—AL-27-00-025 and AL-27-00-026: Control column sprocket gear assembly, and

—AL-27-00-027: Control wheel column assembly.

In addition, Airworthiness Limitations Description data module PC24-A-A04-00-0000-00A-040A-A Issue 008 Revision 00 includes:

—The new limit of validity following the completion of the Full Scale Fatigue Test, and

—Usage assumptions/conditions for operations on unpaved and grass runaways.

EASA AD 2020-0074, dated March 27, 2020, required revising the Airworthiness Limitations section (ALS) to correct an error in the horizontal stabilizer primary trim system secondary power source operational test. The MCAI retains the requirements of EASA AD 2020-0074, dated March 27, 2020, which the MCAI supersedes, and requires the additional revisions discussed previously. You may examine the MCAI in the AD docket at https://www.regulations.gov by searching for and locating Docket No. FAA-2020-0812.

In the NPRM, the FAA proposed to require replacing the revised sections of the ALS described previously into the existing AMM or instructions for continued airworthiness. The FAA is issuing this AD to address the unsafe condition on these products.

Discussion of Final Airworthiness Directive

Comments

The FAA received no comments on the NPRM or on the determination of the costs.

Conclusion

This product has been approved by the aviation authority of another country and is approved for operation in the United States. Pursuant to our bilateral agreement with this State of Design Authority, it has notified the FAA of the unsafe condition described in the MCAI and service information referenced above. The FAA reviewed the relevant data and determined that air safety requires adopting this AD as proposed. Accordingly, the FAA is issuing this AD to address the unsafe condition on these products. This AD is adopted as proposed in the NPRM.

Related Service Information Under 1 CFR Part 51

The FAA reviewed Chapter 04, Airworthiness Limitations, Pilatus PC-24 Aircraft Maintenance Manual (PC-24 AMM) Report 02378, Issue 005, Revision 19, dated May 26, 2020. This service information contains the parent data module and the new limit of validity and updates the usage assumptions and conditions for operations on unpaved and grass runways. This document also contains the revised subsections with revised maintenance actions.

The FAA also reviewed Horizontal stabilizer primary trim system secondary power source—Operation test, data module PC24-A-E27-40-0000-01A-320A-A, dated September 25, 2019, from PC-24 AMM Report 02378, Issue 005, Revision 19, dated May 26, 2020. This service information contains revised procedures for task number AL-27-40-022 in the certification maintenance requirements.

This service information is reasonably available because the interested parties have access to it through their normal course of business or by the means identified in the ADDRESSES.

Costs of Compliance

The FAA estimates that this AD will affect 42 products of U.S. registry. The FAA also estimates that it will take about 1 work-hour per product to comply with the requirements of this proposed AD. The average labor rate is $85 per work-hour.

Based on these figures, the FAA estimates the cost of this AD on U.S. operators will be $3,570 or $85 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not have a significant economic impact, positive or negative, on a substantial number of small entities under the criteria of the Regulatory Flexibility Act.

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-10-28 Pilatus Aircraft Ltd.: Amendment 39-21561; Docket No. FAA-2020-0812; Project Identifier MCAI-2020-01317-A.

(a) Effective Date

This airworthiness directive (AD) is effective July 15, 2021.

(b) Affected ADs

None.

(c) Applicability

This AD applies to Pilatus Aircraft Ltd. Model PC-24 airplanes, all serial numbers, certificated in any category.

(d) Subject

Joint Aircraft System Component (JASC) Code 2740: Stabilizer Control System.

(e) Reason

This AD was prompted by the need to revise the Airworthiness Limitations section (ALS) of the existing aircraft maintenance manual (AMM) to add new and more restrictive tasks for the control column sprocket gear assembly and control wheel column assembly, to address the new limit of validity and update the usage assumptions and conditions for operations on unpaved and grass runways, and to correct an error in the horizontal stabilizer primary trim system secondary power source operational test. The FAA is issuing this AD to prevent reduction in the structural integrity of the airframe and components, as well as an unrecognized failure of the manual pitch trim. These conditions, if not addressed, could result in loss of airplane control.

(f) Actions and Compliance

(1) Before further flight, unless already done, revise the ALS of the existing AMM or instructions for continued airworthiness (ICA) for your airplane by incorporating the following documents.

(i) Airworthiness Limitations, AMM data module PC24-A-A04-00-0000-00A-040A-A, Issue 008, Revision 00, dated May 26, 2020, from Chapter 04, Airworthiness Limitations, Pilatus PC-24 Aircraft Maintenance Manual (PC-24 AMM) Report 02378, Issue 005, Revision 19, dated May 26, 2020.

(ii) Mandatory structural inspection items, AMM data module PC24-A-A04-20-0000-00A-000A-A, Issue 005, Revision 00, dated May 26, 2020, from Chapter 04, Airworthiness Limitations, Pilatus PC-24 Aircraft Maintenance Manual (PC-24 AMM) Report 02378, Issue 005, Revision 19, dated May 26, 2020.

(iii) Certification maintenance requirements, AMM data module PC24-A-A04-30-0000-00A-000A-A, Issue 007, Revision 00, dated October 14, 2019, from Chapter 04, Airworthiness Limitations, Pilatus PC-24 Aircraft Maintenance Manual (PC-24 AMM) Report 02378, Issue 005, Revision 19, dated May 26, 2020.

(iv) Horizontal stabilizer primary trim system secondary power source—Operation test, AMM data module PC24-A-E27-40-0000-01A-320A-A, dated September 25, 2019, from PC-24 AMM Report 02378, Issue 005, Revision 19, dated May 26, 2020. Your ALS must require this procedure for task number AL-27-40-022 in the certification maintenance requirements.

Note 1 to paragraph (f)(1) of this AD: Pilatus PC-24 Aircraft Maintenance Manual, Airworthiness Limitations, AMM data module PC24-A-A04-00-0000-00A-040A-A, Issue 008, Revision 00, dated May 26, 2020, is the parent data module for Chapter 04 of the PC-24 AMM and consists of four subsections (sub-data modules). The parent data module and four sub-data modules comprise the complete ALS of Chapter 04, Airworthiness Limitations, Pilatus PC-24 Aircraft Maintenance Manual (PC-24 AMM) Report 02378, Issue 005, Revision 19, dated May 26, 2020. Incorporating Pilatus PC-24 Aircraft Maintenance Manual, Airworthiness Limitations, AMM data module PC24-A-A04-00-0000-00A-040A-A, Issue 008 Revision 00, dated May 26, 2020, and all four subsections listed in Section 1 General, is acceptable, but not required, for compliance with this AD.

(2) As of the effective date of this AD, except as provided in paragraph (g) of this AD, no alternative replacement times, inspection intervals, or tasks may be approved for the affected parts.

(3) The actions required by paragraph (f)(1) of this AD may be performed by the owner/operator (pilot) holding at least a private pilot certificate and must be entered into the aircraft records showing compliance with this AD in accordance with 14 CFR 43.9(a)(1) through (4), and 14 CFR 91.417(a)(2)(v). The record must be maintained as required by 14 CFR 91.417, 121.380, or 135.439.

(g) Alternative Methods of Compliance (AMOCs)

The Manager, International Validation Branch, FAA, has the authority to approve AMOCs for this AD, if requested using the procedures found in 14 CFR 39.19. Send information to Doug Rudolph, Aviation Safety Engineer, FAA, General Aviation & Rotorcraft Section, International Validation Branch, 901 Locust, Room 301, Kansas City, MO 64106; phone: (816) 329-4059; fax: (816) 329-4090; email: doug.rudolph@faa.gov. Before using any approved AMOC on any airplane to which the AMOC applies, notify your appropriate principal inspector (PI) in the FAA Flight Standards District Office (FSDO), or lacking a PI, your local FSDO. Before using any approved AMOC, notify your appropriate principal inspector, or lacking a principal inspector, the manager of the local flight standards district office/certificate holding district office.

(h) Related Information

Refer to European Union Aviation Safety Agency (EASA) AD 2020-0202, dated September 22, 2020, for more information. You may examine the EASA AD at https://www.regulations.gov by searching for and locating Docket No. FAA-2020-0812.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Chapter 04, Airworthiness Limitations, Pilatus PC-24 Aircraft Maintenance Manual (PC-24 AMM) Report 02378, Issue 005, Revision 19, dated May 26, 2020.

(ii) Horizontal stabilizer primary trim system secondary power source—Operation test, AMM data module PC24-A-E27-40-0000-01A-320A-A, dated September 25, 2019, from PC-24 AMM Report 02378, Issue 005, Revision 19, dated May 26, 2020.

(3) For Pilatus Aircraft Ltd. service information identified in this AD, contact Pilatus Aircraft Ltd., Customer Support General Aviation, CH-6371 Stans, Switzerland; phone: +41 848 24 7 365; email: techsupport.ch@pilatus-aircraft.com; website: https://www.pilatus-aircraft.com.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on May 7, 2021.
Gaetano A. Sciortino,
Deputy Director for Strategic Initiatives, Compliance & Airworthiness Division, Aircraft Certification Service.

[FR Doc. 2021-12045 Filed 6-9-21; 8:45 am]

BILLING CODE 4910-13-P